DEPARTMENT OF COMMERCE

National Oceanic and Atmospheric Administration

[I.D. 032502C]

Western Pacific Fishery Management Council; Public Meeting

AGENCY: National Marine Fisheries Service (NMFS), National Oceanic and Atmospheric Administration (NOAA), Commerce.

ACTION: Notice of public meeting

SUMMARY: The Western Pacific Fishery Management Council (Council) will hold a meeting of its Bottomfish Plan Team (BPT) in Honolulu, HI.

DATES: The meeting of the BPT will be held on April 10 and 11, 2002, from 8:30 a.m. to 5 p.m. each day.

ADDRESSES: The BPT will be held at the Council Office Conference Room, Western Pacific Fishery Management Council, 1164 Bishop St., Suite 1400, Honolulu, HI 96813; telephone: 808-522-8220.

FOR FURTHER INFORMATION CONTACT: Kitty M. Simonds, Executive Director; telephone: 808-522-8220.

SUPPLEMENTARY INFORMATION: The BPT will meet on April 10 and 11, 2002, at the Council Conference Room to discuss the following agenda items:

Wednesday, April 10, 2002, 8:30 a.m.

(1) Introduction

(2) Annual Report review

a. Review Status of 2000 Annual Report Recommendations

b. Identify problems and possible solutions for uncompleted recommendations

c. Review 2001 Annual Report modules and recommendations

American Samoa

Guam

Hawaii

Northern Mariana Island

d. 2000 Annual Report region-wide recommendations

(3) Research priorities for Western Pacific Region bottomfish fisheries

a. Bottomfish research needs

i. American Samoa

ii. Guam

iii. Hawaii

iv. CNMI

b. Prioritize research needs and recommendations

Thursday, April 11, 2002, 8:30 a.m.

(4) Guam offshore bottomfishery development

a. Report on the fishery

b. Management considerations

(5) Northwestern Hawaiian Islands (NWHI) Issues

a. Management under the Clinton Executive Orders that establish the NWHI Coral Reef Reserve

b. Sanctuary Designation Process

c. Pending management actions under the Magnuson-Stevens Act

i. New entry criteria for Mau Zone

ii. Modification to permit renewal and lease charter provisions

(6) Status of Draft Environmental Impact Statement, Biological Opinion, and Marine Mammal Protection Act requirements

(7) Monk Seals

a. Recommendations from the Hawaiian Monk Seal Recovery Team

b. Review and classification of past monk seal hookings

(8) Observer and Monitoring Program

a. NMFS plan for observer coverage

b. New technology options to monitor bottomfish vessels

c. Vessel Monitoring System and depth sensor technology; and

(9) Other Business.

The order in which the agenda items are addressed may change. The BPT will meet as late as necessary to complete scheduled business. Although non-emergency issues not contained in this agenda may come before the BPT for discussion, those issues may not be the subject of formal action during these meetings. Plan Team action will be restricted to those issues specifically listed in this document and any issue arising after publication of this document that requires emergency action under section 305(c) of the Magnuson-Stevens Fishery Conservation and Management Act, provided the public has been notified of the Council's intent to take final action to address the emergency.

Special Accommodations

These meetings are physically accessible to people with disabilities. Requests for sign language interpretation or other auxiliary aids should be directed to Kitty M. Simonds, 808-522-8220 (voice) or 808-522-8226 (fax), at least 5 days prior to the meeting date.

Dated: March 25, 2002.
Matteo Milazzo,
Acting Director, Office of Sustainable Fisheries, National Marine Fisheries Service.

[FR Doc. 02-7513 Filed 3-27-02; 8:45 am]

BILLING CODE 3510-22-S